DEPARTMENT OF JUSTICE

Notice of Lodging of Consent Decree Pursuant to The Clean Water Act

In accordance with 28 CFR 50.7, 38 FR 19029, notice is hereby given that on August 23, 2012, a Modified Consent Decree was lodged with the United States District Court for the District of Massachusetts in United States of America and Commonwealth of Massachusetts v. City of Gloucester, Massachusetts, Civil Action No. 89-2206-WGY (D. Mass.). The Modified Consent Decree addresses, among other things, alleged violations of the federal Clean Water Act, 33 U.S.C. 1251, et seq., and the Massachusetts Clean Waters Act, Mass. Gen. Laws ch. 21, § 42. The Modified Consent Decree requires Gloucester to: (1) Adjust the existing Combined Sewer Overflows schedule to accommodate information collected during construction of currently required projects; (2) more accurately characterize drainage basin overflows and propose mitigation measures; and (3) incorporates a milestone for completing upgrades to the City's treatment plant. Under the proposed modified consent decree, Gloucester will not pay a civil penalty because the EPA has determined that the Gloucester is unable to pay a civil penalty.

For a period of thirty (30) days from the date of this publication, the United States Department of Justice will receive comments relating to the proposed Consent Decree. Comments should be addressed to the Assistant Attorney General for the Environment and Natural Resources Division, and should either be emailed to pubcomment-ees.enrd@usdoj.gov or mailed to P.O. Box 7611, Washington, DC 20044-7611. The comments should refer to United States of America and Commonwealth of Massachusetts v. City of Gloucester, Massachusetts, D.J. Ref. # 90-5-1-1-3388/1.

During the public comment period, the proposed Consent Decree may be examined at the office of the United States Attorney, Suite 9200, 1 Courthouse Way, Boston, Massachusetts 02110, and at the Region I office of the Environmental Protection Agency, One Congress Street, Suite 1100, Boston, Massachusetts 02114. The proposed Consent Decree may also be obtained at the following Department of Justice Web site: http://www.usdoj.gov/enrd/Consent_Decrees.html. A copy may also be obtained by mail from the Department of Justice Consent Decree Library, P.O. Box 7611, Washington, DC 20044-7611 or by faxing or emailing a request to “Consent Decree Copy” (EESCDCopy.enrd@usdoj.gov), fax no. (202) 514-0097, phone confirmation number (202) 514-5271. If requesting a copy from the Consent Decree Library by mail, please enclose a check in the amount of $2.25 ($.25 per page) payable to the U.S. Treasury, or if by email or fax, forward a check in that amount to the Consent Decree Library at the address given above.

Ronald Gluck,
Assistant Chief, Environmental Enforcement Section, Environment & Natural Resources Division.

[FR Doc. 2012-21369 Filed 8-29-12; 8:45 am]

BILLING CODE 4410-15-P